DEPARTMENT OF THE INTERIOR

Bureau of Land Management

[OR-035-00-1150-ES : GPO-0364]

Notice of Realty Action; Recreation and Public Purposes (R&PP) Act Classification; Oregon

AGENCY: Bureau of Land Management, Interior.

ACTION: Notice.

SUMMARY: The following public lands in Baker county, Oregon have been examined and found suitable for classification for lease to the Oregon Travel Information Council under the provisions of the Recreation and Public Purposes Act, as amended (43 U.S.C. 869 et seq.). The Oregon Travel Information Council purposes to use the lands for a highway visitor parking area with an Oregon Trail historical interpretive sign.

Williamette Meridian

T. 09S., R. 41E.,

Sec. 06, SE¼NE¼SE¼.

Containing 0.12 acres more or less.

The lands are not needed for Federal purposes. Lease is consistent with current Bureau of Land Management (BLM) land use planning and would be in the public interest.

The lease, when issued, will be subject to the following terms, conditions and reservations:

1. Provisions of the Recreation and Public Purposes Act and to all applicable regulations of the secretary of the Interior.

2. All valid existing rights documented on the official public land records at the time of lease issuance.

3. All minerals shall be reserved to the United States, together with the right to prospect for, mine, and remove the minerals.

4. Any other reservations that the authorized officer determines appropriate to ensure public access and proper management of Federal lands and interests therein.

Upon publication of this notice in the Federal Register, the lands will be segregated from all forms of appropriation under the public land laws, including the general mining laws, except for lease under the Recreation and Public Purposes Act and leasing under the mineral leasing laws. For a period of 45 days from the date of publication of this notice, interested persons may submit comments regarding the proposed classification of the lands to the District Manager. Any adverse comments will be reviewed by the State Director. In the absence of any adverse comments, the classification will become effective 60 days from the date of publication of this notice.

Upon the effective date of classification, the lands will be open to the filing of an application under the Recreation and Public Purposes Act by any interested, qualified applicant. If, after 18 months following the effective date of classification, an application has not been filed, the segregative effect of the classification shall automatically expire and the lands classified shall return to their former status without further action by the authorized officer.

FOR FURTHER INFORMATION CONTACT: Susie Manezes, Bureau of Land Management, Vale District, 100 Oregon Street, Vale, OR 97918.

Juan Palma,
District Manager.

[FR Doc. 00-23708 Filed 9-14-00; 8:45 am]

BILLING CODE 4310-33-M